DEPARTMENT OF ENERGY

Federal Energy Regulatory Commission

[Docket No. ES01-19-001]

American Transmission Company LLC; Notice of Application

June 26, 2002.

Take notice that on June 19, 2002, American Transmission Company LLC submitted an amendment to its original application in this proceeding, under section 204 of the Federal Power Act. The amendment seeks authorization to issue long-term debt with a maturity date of thirty years or less instead of the previously approved maturity date of ten years or less (with no change in the total aggregate amount outstanding of $400 million).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Comment Date: July 12, 2002.

Linwood A. Watson, Jr.,
Deputy Secretary.

[FR Doc. 02-16611 Filed 7-1-02; 8:45 am]

BILLING CODE 6717-01-P